DEPARTMENT OF THE INTERIOR

Bureau of Indian Affairs

[245A2100DD/AAKC001030/A0A501010.999900]

Land Acquisitions; Pascua Yaqui Tribe, Eleven Parcels, Pima County, Arizona

AGENCY: Bureau of Indian Affairs, Interior.

ACTION: Notice.

SUMMARY: The Assistant Secretary—Indian Affairs made a final agency determination to acquire in trust 25.56 acres, more or less, of land consisting of eleven off-reservation parcels in Pima County, Arizona, (Site) for the Pascua Yaqui Tribe of Arizona, (Tribe) for gaming and other purposes.

DATES: This final determination was made on December 29, 2023.

FOR FURTHER INFORMATION CONTACT: Ms. Paula L. Hart, Director, Office of Indian Gaming, Mailstop 3543, 1849 C Street NW, Washington, DC 20240, paula.hart@bia.gov, (202) 219-4066.

SUPPLEMENTARY INFORMATION: On the date listed in the DATES section of this notice, the Assistant Secretary—Indian Affairs made a final agency determination to acquire the Site, consisting of 25.56 acres, more or less, in trust for the Tribe under the authority of the Old Pascua Community Land Acquisition Act of 2022, Public Law 117-275, 136 Stat. 4184 (2022), and Department regulations.

The Assistant Secretary—Indian Affairs, on behalf of the Secretary of the Interior, will immediately acquire title to the Site in the name of the United States of America in trust for the Tribe upon fulfillment of all Departmental requirements. The legal description for the Site is as follows:

Legal Description of Property

Description: 901 W Grant, 2395 N Fairview, and 1055 W Grant, 901 W Grant and 2395 N Fairview aka 11516001B and 11516001C

Parcel No. 1: APN: 115-16-001B

A parcel of land located in the Northwest quarter of Section 2, Township 14 South, Range 13 East, Gila and Salt River Base and Meridian, Pima County, Arizona, more particularly described as follows:

COMMENCING at the North quarter corner of said Section 2, being a brass cap survey monument at the intersection of the centerline of Grant Road and the Westerly right-of-way of Fairview Avenue, each public roadways within the City of Tucson, Arizona;

THENCE along the centerline of Grant Road, North 89°05′59″ West, 90.07 feet to a point;

THENCE South 00°54′01″ West, 60.00 feet to the Northeast corner of Lot 13 of Grant Interstate Commons, a subdivision of record in Book 46 of Maps and Plats. Page 27, records of Pima County, Arizona, being the POINT OF BEGINNING of the herein described parcel;

THENCE along the Easterly boundary of Lot 13, as amended by Scrivener's Error recorded in Docket 10302. Page 146, South 00°13′42″ East, 138.47 feet to a point;

THENCE North 89°42′33″ East, 92.00 feet to a point on the Westerly right-of-way of Fairview Avenue; THENCE along said right-of-way, North 00°27′04″ West, 83.83 feet to the beginning of a curve tangent to the line;

THENCE Northerly, Northwesterly and Westerly 83.55 feet along the curve concave to the Southwest, having a radius of 54.00 feet and a central angle of 88°38′55″ to a point on the Southerly right-of-way of Grant Road;

THENCE along the Grant Road right-of-way, North 89°05′59″ West tangent to the curve 38.74 feet to the POINT OF BEGINNING of the herein described parcel.

Parcel No. 2: APN: 11516001C

A parcel of land located in the Northwest quarter of Section 2, Township 14 South, Range 13 East, Gila and Salt River Base and Meridian, Pima County, Arizona, more particularly described as follows:

COMMENCING at the North quarter corner of said Section 2, being a brass cap survey monument at the intersection of the centerline of Grant Road and the Westerly right-of-way of Fairview Avenue, each public roadway within the City of Tucson, Arizona;

THENCE along the centerline of Grant Road, North 89°05′59″ West, 90.07 feet to a point;

THENCE South 00°54′01″ West, 60.00 feet to the Northeast corner of Lot 13 of Grant Interstate Commons, a subdivision of record in Book 46 of Maps and Plats. Page 27, records of Pima County, Arizona;

THENCE along the Easterly boundary of Lot 13, as amended by Scrivener's Error recorded in Docket 10302. Page 146, South 00°13′42″ East, 138.47 feet to the POINT OF BEGINNING of the herein described parcel;

THENCE continuing South 00°13′42″ East, along the Easterly boundaries of Lots 13 and 12 of said subdivision, a distance of 259.48 feet to the Southeastern corner of Lot 12;

THENCE South 89°05′20″ East, 93.03 feet to a point on the Westerly right-of-way of Fairview Avenue;

THENCE along said right-of-way, North 00°27′04″ West, 261.44 feet to a point;

THENCE South 89°42′33″ West, 92.00 feet to the POINT OF BEGINNING of the herein described.

Description: 1055 W Grant aka APN 115160130

Parcel No. 1

A portion of the Northwest Quarter of Section 2, Township 14 South, Range 13 East, Gila and Salt River Meridian, Pima County, Arizona, described as follows:

Beginning at a point in the East line of said Northwest Quarter of Section 2, which point is South 0 degrees 27 minutes 07 seconds East, along said East line, a distance of 678.02 feet from the North quarter corner of said Section 2, which point of beginning is identical with the point of beginning of Parcel No. 1 as described in Deed of Trust recorded in the Office of the County Recorder of Pima County, Arizona, in Docket 1655 at page 201;

Thence North 89 degrees 57 minutes 43 seconds West, along a portion of the North line of said Parcel No. 1 described in Docket 1655 at page 201, and its Westerly extension, a distance of 586.40 feet to a point in the Southerly extension of the West line of Parcel No. 2 as described in said Docket 1655 at page 201;

Thence South 0 degrees 29 minutes 32 seconds East, along said Southerly extension, a distance of 93.20 feet to a point in the center line (10 feet from east side) of that certain easement conveyed to the City of Tucson by instrument recorded in said office of the County Recorder in Docket 2005 at page 138;

Thence South 52 degrees 58 minutes 37 seconds West, along said center line, a distance of 334.13 feet to a point in the Northeasterly line of the Southern Pacific Railroad right-of-way;

Thence South 35 degrees 16 minutes 00 seconds East, along said right-of-way line, a distance of 810.00 feet to a point;

Thence North 54 degrees 44 minutes 00 seconds East, a distance of 477.72 feet to a point in said East line of the Northwest Quarter of Section 2, which point is 41.56 feet Southerly from the Northeast corner of the Southeast Quarter of said Northwest Quarter of Section 2;

Thence North 0 degrees 27 minutes 07 seconds West, along said East line of the Northwest Quarter of Section 2, a distance of 679.55 feet to the POINT OF BEGINNING.

EXCEPT that part thereof in the Southeast Quarter of the Northwest Quarter of said Section 2, lying Easterly of the Easterly line of said Parcel No. 1 described in Docket 1655 at page 201.

Parcel No. 2

An easement for ingress and egress over a parcel of land, being 60 feet in width, situate in the Northwest Quarter of Section 2, Township 14 South, Range 13 East, Gila and Salt River Meridian, Pima County, Arizona, the West line of said parcel being described as follows:

Beginning at a point in the East line of said Northwest Quarter of Section 2, which point is South 0 degrees 02 minutes 07 seconds East, along said East line, a distance of 678.02 feet from the North quarter corner of said Section 2, which point of beginning is identical with the point of beginning of Parcel 1 as described in Deed of Trust recorded in Docket 1655 at page 201;

Thence North 89 degrees 57 minutes 43 seconds West along a portion of the North line of said Parcel 1, and its Westerly extension, a distance of 586.40 feet to a point in the Southerly extension of the West line of Parcel No 2 as described in said Deed of Trust;

Thence South 89 degrees 57 minutes 43 seconds East, a distance of 12 feet to the TRUE POINT OF BEGINNING of said West line;

Thence North 0 degrees 29 minutes 32 seconds West, to a point in the South line of West Grant Road as said road was established by Final Order of Condemnation recorded in the office of the County Recorder of Pima County, Arizona, in Docket 1984 at page 137.

Parcel No. 3

An easement for a sign together with access, ingress and egress for erection and maintenance thereof, described as follows:

Beginning at a point in the East line of said Northwest Quarter of Section 2, Township 14 South, Range 13 East, Gila and Salt River Meridian, Pima County, Arizona, which point is South 0 degrees 27 minutes 07 seconds East, along said East line, a distance of 678.02 feet from the North Quarter corner of said Section 2, which point is identical with the point of beginning of Parcel 1 as described in Deed of Trust recorded in Docket 1655 at page 201;

Thence North 89 degrees 57 minutes 43 seconds West along a portion of the North line of said Parcel 1, and its Westerly extension, a distance of 586.40 feet to a point in the Southerly extension of the West line of Parcel No 2 as described in said Deed of Trust;

Thence North 0 degrees 29 minutes 32 seconds West, to a point in the South line of West Grant Road as said road was established by Final Order of Condemnation recorded in the office of the County Recorder of Pima County, Arizona, in Docket 1984 at page 137;

Said last mentioned point in the South line of West Grant Road being the TRUE POINT OF BEGINNING of the Parcel herein described;

Thence South 0 degrees 29 minutes 32 seconds East, a distance of 60 feet to a point;

Thence North 89 degrees 30 minutes 28 seconds East, a distance of 12 feet to a point;

Thence North 0 degrees 29 minutes 32 seconds West to a point on the South line of said West Grant Road;

Thence Westerly to the TRUE POINT OF BEGINNING.

Description: 911 W Grant aka APN 11516039A

Parcel No. 1

Lot 11 of GRANT INTERSTATE COMMONS, according to the plat of record in the office of the County Recorder of Pima County, Arizona, recorded in Book 46 of Maps, page 27.

Parcel No. 2

That portion of Fairview Avenue, as shown on the map or plat of Parque De Pascua, Lots 1 thru 5 and Tracts A, B, C and D, being a subdivision of Pima County, Arizona, in Book 33 of Maps and Plats at page 96 thereof, being described as follows:

Beginning at the Southeast corner of Lot 11 of Grant Interstate Commons, according to the plat of record in the office of the County Recorder of Pima County, Arizona, recorded in Book 46 of Maps, page 27 being a subdivision of Pima County, Arizona, according to the final plat thereof of record in said County Recorder's Office thereof, said corner being located in the West right of way line of said Fairview Avenue;

Thence North 0 degrees 27 minutes 04 seconds West, along the East line of Lot 11, being coincident with said West right of way line, a distance of 97.00 feet to a point; Thence North 89 degrees 32 minutes 56 seconds East, at right angles to said right of way line a distance of 1.00 feet to a point in a line which is parallel with and distance 1.00 feet Easterly of said West right of way line;

Thence South 0 degrees 27 minutes 04 seconds East, along said parallel line, a distance of 97.01 feet to its intersection with the Easterly prolongation of the South line of Lot 11;

Thence North 89 degrees 59 minutes 30 seconds West along said prolongation, a distance of 1.00 feet to the Southeast corner of Lot 11, being the Point of Beginning.

Description: 919 W Grant aka APN 11516040D

Parcel No. 1

The East Half of Lot 12 and the East 23.59 feet of the West half of said Lot 12, EXCEPT any portion lying within the Northerly 24.00 feet of said Lot 12, all in GRANT INTERSTATE COMMONS, a subdivision recorded in Book 46 of Maps and Plats at Page 27, records of Pima County, Arizona, described as follows:

Commencing at the Northeast corner of said Lot 12 as revised by Scrivener's Error recorded in Docket 10302, Page 146, records of Pima County, Arizona;

Thence South 00 degrees 13 minutes 42 seconds East 24.00 feet upon the East line of said Lot 12 as revised by said Scrivener's Error, to a point on a line 24.00 feet Southerly of and parallel with the North line of said Lot 12, said point being the Point of Beginning;

Thence continue South 00 degrees 13 minutes 42 seconds East 191.66 feet upon said East line, as revised by said Scrivener's Error; Thence South 89 degrees 05 minutes 20 seconds East, 93.02 feet upon said East line;

Thence South 00 degrees 27 minutes 04 seconds East, 29.95 feet upon said East line, also being the East line of the Northwest quarter of Section 2, Township 14 South, Range 13 East, Gila and Salt River Base and Meridian, also being the West right of way line of Fairview Avenue, to the South line of said Lot 12;

Thence North 89 degrees 05 minutes 20 seconds West, 60.00 feet upon said South line to a point of curvature of a tangent curve concave to the North;

Thence Westerly upon said South line, upon the arc of said curve, to the right, having a radius of 150.00 feet and a central angle of 17 degrees 46 minutes 53 seconds for an arc distance of 46.55 feet to a point of reverse curvature of a tangent curve concave to the South;

Thence Westerly upon said South line, upon the arc of said curve to the left, having a radius of 150.00 feet and a central angle of 17 degrees 46 minutes 53 seconds for an arc distance of 46.55 feet to a Point of Tangency;

Thence North 89 degrees 05 minutes 20 seconds West, 169.22 feet upon said South line, to a line 227.32 feet West of and parallel with the Northerly portion of the East line of Lot 12 as shown on said Plat, not as revised by said Scrivener's Error;

Thence North 00 degrees 01 minutes 10 seconds West, 207.27 feet upon said parallel line, to said line 24.00 feet Southerly of and parallel with the North line of Lot 12;

Thence South 89 degrees 05 minutes 20 seconds East, 226.65 feet upon said parallel line to the Point of Beginning.

Parcel No. 2

A Sewer easement over that portion of Lot 12 in GRANT INTERSTATE COMMONS, a subdivision recorded in Book 46 of Maps and Plats, at Page 27, records of Pima County, Arizona, described as follows:

Commencing at the Southwest corner of said Lot 12;

Thence South 89 degrees 05 minutes 20 seconds East 40.01 feet upon the South line of said Lot 12 to the East line of that 20' wide public sewer easement as shown on said Grant Interstate Commons being the Point of Beginning;

Thence North 00 degrees 27 minutes 04 seconds West 15.00 feet upon said East line to the Northeast corner of said Easement;

Thence North 89 degrees 05 minutes 20 seconds West 20.01 feet upon the North line of said easement to the Northwest corner of said Easement;

Thence North 00 degrees 27 minutes 04 seconds West 5.00 feet upon the Northerly prolongation of the West line of said Easement to a line 20.00 feet Northerly of and Parallel with said South line of Lot 12;

Thence South 89 degrees 05 minutes 20 seconds East 172.27 feet upon said parallel line to a line 227.32 feet Westerly of and parallel with the Northerly portion of the East line of said Lot 12;

Thence South 00 degrees 01 minutes 10 seconds East 20.00 feet upon said parallel line to said South line of Lot 12;

Thence North 89 degrees 05 minutes 20 seconds West 152.11 feet upon said South line to the Point of Beginning.

Except any portion thereof lying within Parcel No. 1.

Description: 1117 W Grant aka APN 115160310 Lot 3 of GRANT INTERSTATE COMMONS, a subdivision of Pima County, Arizona, according to the map or plat thereof of record in the office of the County Recorder of Pima County, Arizona, in Book 46 of Maps and Plats at page 27 thereof

Description: 1101 and 1121 W Grant aka APN 115160330 includes 1131 and 1141 W Grant aka APN 115160320

Parcel No. 1:

Lots 4 and 5, of GRANT INTERSTATE COMMONS, according to Book 46 of Maps, Page 27, records of Pima County, Arizona;

Parcel No. 2:

A NON-EXCLUSIVE easement as set forth in the Declaration of Covenants, Conditions, Easements and Restrictions for Grant Interstate Commons, for ingress and egress recorded January 7, 1988 in Docket 8197, page 495.

Description: 1075 W Grant and 1085 W Grant 1075 W Grant aka APN 11516034B

Parcel No. 1:

That portion of Lot 6 of GRANT INTERSTATE COMMONS, a subdivision of Pima County, Arizona, according to the map or plat thereof of record in the office of the County Recorder of Pima County, Arizona, in Book 46 of Maps and Plats at Page 27 thereof, described as follows:

Beginning at the Northeast corner of said Lot 6;

Thence South 89 degrees 40 minutes 23 seconds West, along the North line of said Lot 6, a distance of 255.75 feet;

Thence South 22 degrees 46 minutes 18 seconds East, a distance of 215.07 feet to a point on the Southerly line of said Lot 6;

Thence North 54 degrees 46 minutes 02 seconds East (North 54 degrees 45 minutes 45 seconds East, record), along the Southerly line of said Lot 6, a distance of 32.81 to an angle point of said Lot 6;

Thence North 89 degrees 40 minutes 23 seconds East, along the South line of said Lot 6, a distance of 147.12 feet to the Southeast corner of said Lot 6;

Thence North 00 degrees 27 minutes 04 seconds West, along the East line of said Lot 6, a distance of 180.00 feet to the POINT OF BEGINNING.

Parcel No. 2:

A non-exclusive and perpetual easement and right of way over and across all driveways, roadways, and walkways for the purpose of vehicular and pedestrian ingress and egress under the terms, conditions and provisions of the Reciprocal Easement Agreement recorded October 2, 2000 in Docket 11395 at Page 1951, in the office of the Pima County Recorder.

Description: 1085 W Grant aka APN 11516034A

Parcel No. 1:

Lot 6, of GRANT INTERSTATE COMMONS, according to Book 46 of Maps, Page 27, records of Pima County, Arizona; Except that portion conveyed in Docket 11395, page 1947.

Parcel No. 2:

An Easement for Vehicular and Pedestrian ingress and egress and parking over all driveways, roadways and walkways as set forth in the Reciprocal Easement Agreement recorded in Docket 11395, page 1951.

Description: 1065 W Grant aka APN 115160350 Lot 7, of GRANT INTERSTATE COMMONS, according to Book 46 of Maps, Page 27, records of Pima County, Arizona

Authority: This notice is published in the exercise of authority delegated by the Secretary of the Interior to the Assistant Secretary—Indian Affairs by 209 Departmental Manual 8.1, and is published to comply with the requirements of 25 CFR 151.12 (c)(2)(ii) that notice of the decision to acquire land in trust be promptly provided in the Federal Register.

Bryan Newland,
Assistant Secretary—Indian Affairs.

[FR Doc. 2024-01467 Filed 1-24-24; 8:45 am]

BILLING CODE 4337-15-P